DEPARTMENT OF TRANSPORTATION

Federal Aviation Administration

[Summary Notice No. PE-2000-02]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion of omission of information in the summary is intended to affect the legal status of any petition or its final disposition.

DATE: Comments on petitions received must identify the petition docket number involved and must be received on or before February 22, 2000.

ADDRESS: Send comments on any petition in triplicate to: Federal Aviation Administration, Office of the Chief Counsel, Attn: Rule Docket (AGC-200), Petition Docket No._, 800 Independence Avenue, SW., Washington, DC 20591.

Comments may also be sent electronically to the following internet address: 9_NPRM-cmts@faa.gov.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR Part 11).

Issued in Washington, DC., on January 27, 2000.
Donald P. Byrne,
Assistant Chief Counsel for Regulations.

Dispositions of Petitions

Docket No.: 28357.

Petitioner: United Airlines, Inc.

Section of the FAR Affected: 14 CFR 145.45(f).

Description of Relief Sought/Disposition: To permit United Airlines, Inc., to make available to all of its supervisory and inspection personnel one copy of its repair station inspection procedures manual, rather than giving a copy of the manual to each of these individuals.

Grant, 01/04/2000, Exemption No. 6393B

Docket No.: 28576.

Petitioner: Táxi Aéreo Marilia, S.A.

Section of the FAR Affected: 14 CFR 145.47(b).

Description of Relief Sought/Disposition: To permit Táxi Aéreo Marilia, S.A. to use the calibration standards of the Institute Nacional de Metrologia, Normalizacão e Qualidade Industrial in lieu of the calibration standards of the U.S. National Institute of Standards and Technology to test its inspection and test equipment.

Grant, 01/11/2000, Exemption No. 6855A

Docket No.: 29108.

Petitioner: Skydive Dallas, Inc.

Section of the FAR Affected: 14 CFR 105.43(a).

Description of Relief Sought/Disposition: To permit Skydive Dallas, Inc., to allow nonstudent foreign nationals to participate in Skydive Dallas-sponsored parachute jumping events without complying with the parachute equipment and packing requirements of § 105.43(a).

Grant, 01/04/2000, Exemption No. 6744A

Docket No.: 29468.

Petitioner: China Aircraft Services Limited.

Section of the FAR Affected: 14 CFR 145.37(b).

Description of Relief Sought/Disposition: To permit China Aircraft Services Limited to qualify for a part 145 repair station certificate without meeting the special housing and facility requirements of § 145.37(b).

Denial, 01/04/2000, Exemption No. 7095

Docket No.: 29509.

Petitioner: Michelin Aircraft Tire Corporation.

Section of the FAR Affected: 14 CFR 21.325(b)(3).

Description of Relief Sought/Disposition: To allow the issuance of U.S. export airworthiness approvals for aircraft tires manufactured and located at Michelin Aircraft Tire Corporation's Nong Khae, Thailand, factory.

Grant, 01/14/2000, Exemption No. 7099

[FR Doc. 00-2260 Filed 02-01-00; 8:45 am]

BILLING CODE 4910-13-M